DEPARTMENT OF TRANSPORTATION

Federal Aviation Administration

Notice of Closure of Airport; Orange City Municipal Airport, Orange City, Iowa, Friday, January 31, 2020

AGENCY: Federal Aviation Administration, Department of Transportation.

ACTION: Notice of permanent closure.

SUMMARY: The Federal Aviation Administration (FAA) received written notice, dated September 6, 2019, from the City of Orange City advising that on January 31, 2020, it was permanently closing Orange City Municipal Airport (ORC), Orange City, Iowa; the notice was in excess of 30 days before the closure. The FAA hereby publishes the City of Orange City's notice of permanent closure of Orange City Municipal Airport.

DATES: The permanent closure of the airport is effective as of January 31, 2020.

FOR FURTHER INFORMATION CONTACT: Jim Johnson, Director, Airports Division, FAA Central Region, 816.329.2600, office.

SUPPLEMENTARY INFORMATION: The City's letter regarding the submittal of the Release of Airport Property and Closure Plan for the Orange City Municipal Airport, Orange City, Iowa (ORC) dated September 6, 2019, is attached.

Issued in Kansas City, MO, on December 4, 2019.
Dated: December 4, 2019.
Rodney N. Joel,
Acting Director Airports Division—Central Region.

BILLING CODE P

[FR Doc. 2019-26455 Filed 12-6-19; 8:45 am]

BILLING CODE C